COMMITTEE FOR PURCHASE FROM PEOPLE WHO ARE BLIND OR SEVERELY DISABLED

Procurement List; Proposed Addition and Deletions

AGENCY: Committee for Purchase From People Who Are Blind or Severely Disabled.

ACTION: Notice, correction.

SUMMARY: The Committee for Purchase From People Who Are Blind or Severely Disabled published a document in the Federal Register of August 17, 2018 concerning a notice of Proposed Addition and Deletions.

FOR FURTHER INFORMATION CONTACT: For further information or to submit comments contact: Michael R. Jurkowski, Telephone: (703) 603-2117.

SUPPLEMENTARY INFORMATION:

Correction

In the Federal Register of August 17, 2018, in FR Doc. 83 FR 41064-41065, the Committee would like to correct the notice to include the Mandatory for and Distribution for the product (Disposable Dinnerware Kit). The Committee would also like to correct the notice to include the Service Type and Description of the Product being proposed for deletion.

DATES: Comments must be received on or before: September 16, 2018.

ADDRESSES: Committee for Purchase From People Who Are Blind or Severely Disabled, 1401 S Clark Street, Suite 715, Arlington, Virginia 22202-4149.

FOR FURTHER INFORMATION CONTACT: For further information or to submit comments contact: Michael R. Jurkowski, Telephone: (703) 603-2117, Fax: (703) 603-0655, or email CMTEFedReg@AbilityOne.gov.

SUPPLEMENTARY INFORMATION: This notice is published pursuant to 41 U.S.C. 8503(a)(2) and 41 CFR 51-2.3. Its purpose is to provide interested persons an opportunity to submit comments on the proposed actions.

Addition

If the Committee approves the proposed addition, the entities of the Federal Government identified in this notice will be required to procure the product listed below from nonprofit agency employing persons who are blind or have other severe disabilities.

The following product is proposed for addition to the Procurement List for production by the nonprofit agency listed:

Product

NSN(s)—Product Name(s): 7360-00-139-0480—Disposable Dinnerware Kit

Mandatory Source of Supply: Expanco, Inc., Fort Worth, TX

Mandatory for: 100% of the requirement of the Department of Defense

Contracting Activity: Defense Logistics Agency Troop Support

Distribution: C-List

Deletions

The following products and services are proposed for deletion from the Procurement List:

Products

NSN(s)—Product Name(s)

COE001—Blazer

COE002—Blazer

COE004—Shirt

COE005—Shirt

COE006—Shirt

COE007—Shirt

COE008—Tab Bow

COE009—Tie

COE010—Tie Tac

COE011—Pants

COE012—Pants

COE013—Skirt

COE014A—Shirt

COE014B—Shirt

COE015B—Shirt

COE015A—Shirt

COE016A—Trousers

COE016B—Trousers

COE018—Cap

COE027—Shirt COE032—pants

COE033—Pants

COE034A—Gloves

COE034B—Gloves

Mandatory Source of Supply: Human Technologies Corporation, Utica, NY

Contracting Activity: W072 ENDIST Pittsburgh, Pittsburgh, PA

NSN(s)—Product Name(s): 7510-00-NSH-0114—Remanufactured Ink Cartridges, Black

Mandatory Source of Supply: TRI Industries NFP, Vernon Hills, IL

Contracting Activity: Kansas City Acquisition Branch, Kansas City, MO

Services

Service Type: Janitorial/Custodial Service

Mandatory for: VA Outpatient Clinic, Mobile, AL

Mandatory Source of Supply: Lakeview Center, Inc., Pensacola, FL

Contracting Activity: Veterans Affairs, Department of, NAC

Service Type: Janitorial Service

Mandatory for: Naval Operations Support Center (NOSC) Bldgs. 245 and 247, Cheyenne, WY

Mandatory Source of Supply: Skils'kin, Spokane, WA

Contracting Activity: Dept. of the Navy, NAVFAC Northwest

Service Type: Janitorial/Custodial Service

Mandatory for: Orlando VA Medical Center, 2500 Leahy Avenue, Orlando, FL

Mandatory Source of Supply: Lakeview Center, Inc., Pensacola, FL

Contracting Activity: Veterans Affairs, Department of, 675—Orlando

Service Type: Food Service Attendant Service

Mandatory for: USDA, Animal and Plant Health Inspection Service: Otis Methods Dev. Center, Building 1398, Otis ANG Base, MA

Mandatory Source of Supply: Unknown

Contracting Activity: Dept. of the Air Force, FA7014 AFDW PK

Service Type: Laundry Service

Mandatory for:

Aiken CBOC, 951 Milbrook Avenue, Aiken, SC

Athens VA CBOC, 9249 Highway 29 South, Athens, GA

Carl Vinson VA Medical Center, 1826 Veterans Boulevard, Dublin, GA

Charlie Norwood VA Medical Center Uptown Division, 1 Freedom Way, Augusta, GA

Charlie Norwood VA Medical Center Downtown Division, 800 Balie Street, Augusta, GA

Ralph H. Johnson VA Medical Center, 109 Bee Street, Charleston, SC

W.J.B. Dorn VA Medical Center, 6439 Garners Ferry Road, Columbia, SC

Mandatory Source of Supply: GINFL Services, Inc., Jacksonville, FL

Contracting Activity: Veterans Affairs, Department of, 247—Network Contract Office 7

Michael R. Jurkowski,
Business Management Specialist Business Operations.

[FR Doc. 2018-18392 Filed 8-23-18; 8:45 am]

BILLING CODE 6353-01-P